DEPARTMENT OF HOMELAND SECURITY

Coast Guard

33 CFR Part 117

[Docket No. USCG-2013-0370]

Drawbridge Operation Regulation; Cumberland River, Nashville, TN

AGENCY: Coast Guard, DHS.

ACTION: Notice of deviation from drawbridge regulation.

SUMMARY: The Coast Guard has issued a temporary deviation from the operating schedule that governs the Louisville and Nashville Railroad Drawbridge across the Cumberland River, mile 190.4, at Nashville, Tennessee. The deviation is necessary to allow the bridge owner time to perform preventive maintenance that is essential to the continued safe operation of the drawbridge. This deviation allows the bridge to remain in the closed-to-navigation position while a worn gear and shaft assembly are replaced.

DATES: This deviation is effective from 8 a.m., May 28, 2013 to 6 p.m., May 29, 2013.

ADDRESSES: The docket for this deviation, [USCG-2013-0370] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Eric A. Washburn, Bridge Administrator, Western Rivers, Coast Guard; telephone 314-269-2378, email Eric.Washburn@uscg.mil. If you have questions on viewing the docket, call Barbara Hairston, Program Manager, Docket Operations, telephone 202-366-9826.

SUPPLEMENTARY INFORMATION: The CSX Transportation, Inc. requested a temporary deviation for the Louisville and Nashville Railroad Drawbridge, across the Cumberland River, mile 190.4, at Nashville, Tennessee to remain in the closed-to-navigation position while a worn gear and shaft assembly are replaced. The closure period will start at 8 a.m., May 28, 2013 to 6 p.m., May 29, 2013.

Once the worn gear and shaft assembly are removed, the swing span will not be able to open, even for emergencies, until the replacement of the gear and shaft assembly is installed.

The Louisville and Nashville Railroad Drawbridge currently operates in accordance with 33 CFR 117.5, which states the general requirement that drawbridges shall open promptly and fully for the passage of vessels when a request to open is given in accordance with the subpart. In order to facilitate the needed bridge work, the drawbridge must be kept in the closed-to-navigation position.

There are no alternate routes for vessels transiting this section of the Cumberland River.

The Louisville and Nashville Railroad Drawbridge, in the closed-to-navigation position, provides a vertical clearance of 47 feet above normal pool. Navigation on the waterway consists primarily of commercial tows and recreational watercraft. This temporary deviation has been coordinated with the waterway users. No objections were received.

In accordance with 33 CFR 117.35(e), the drawbridge must return to its regular operating schedule immediately at the end of the designated period of this temporary deviation. This deviation from the operating regulations is authorized under 33 CFR 117.35.

Dated: May 8, 2013.
Eric A. Washburn,
Bridge Administrator, Western Rivers.

[FR Doc. 2013-12542 Filed 5-24-13; 8:45 am]

BILLING CODE 9110-04-P